DEPARTMENT OF COMMERCE

National Oceanic and Atmospheric Administration

50 CFR Parts 223 and 224

[Docket No. 240626-0177; RTID 0648-XF174]

Endangered and Threatened Wildlife and Plants; Listing Determinations for Ten Species of Giant Clams Under the Endangered Species Act; Public Hearings

AGENCY: National Marine Fisheries Service (NMFS), National Oceanic and Atmospheric Administration (NOAA), Department of Commerce.

ACTION: Notification of public hearings and listening sessions.

SUMMARY: We, NMFS, will hold seven public hearings and three listening sessions related to our proposed rule to list five species of giant clams as endangered and five species of giant clams as threatened under the Endangered Species Act (ESA).

DATES: Please see Public Hearings and Listening Sessions in the SUPPLEMENTARY INFORMATION section for date information. Comments on the proposed rule (89 FR 60498, July 25, 2024) must be received by October 23, 2024. Comments received after this date may not be accepted.

ADDRESSES: The addresses for the venues of the in-person hearings and listening sessions, and instructions for joining the virtual hearing are provided below.

• Tutuila Public Hearing #1 and Listening Session: Rex H. Lee Auditorium, Utulei, Eastern District, American Samoa 96799.

• Tutuila Public Hearing #2: Tradewinds Hotel, Tafuna, Western District, American Samoa 96799.

• Tinian Public Hearing: Tinian Elementary School, 8th Avenue, San Jose, Tinian, CNMI 96952.

• Rota Public Hearing: Department of Commerce, Songsong Village, Rota, CNMI 96951.

• Guam Public Hearing and Listening Session: Pacific Islands Club Guam, Pale San Vitores Rd., Tumon, Guam 96913.

• Saipan Public Hearing and Listening Session: Crowne Plaza Resort, Coral Tree Ave., Garapan, Saipan, CNMI 96950.

• Virtual Hearing: This hearing will be conducted as a Webex meeting. You may join the Webex meeting using a web browser, the Webex desktop app (app installation required), a mobile app on a phone (app installation required), or audio-only using just a phone call, as specified below.

○ Join the webinar via this link: https://noaanmfs-meets.webex.com/noaanmfs-meets/j.php?MTID=m62351f6b3e964c7a1b91f6e8bc59a208.

○ Webinar number: 2820 450 2543 Webinar password: rV5ttXEcT77 (78588932 when dialing from a phone or video system).

○ Join by phone: +1-415-527-5035 Access code: 282 045 02543.

You may submit comments verbally or in writing at the public hearings, or in writing by any of the following methods:

• Electronic Submissions: Submit all electronic comments via the Federal e- Rulemaking Portal. Go to https://www.regulations.gov and enter NOAA-NMFS-2017-0029 in the Search box. Click the “Comment” icon, complete the required fields, and enter or attach your comments.

• Mail: John Rippe, Office of Protected Resources, NMFS, 1315 East-West Highway, Silver Spring, MD 20910.

Instructions: You must submit comments by one of the previously described methods to ensure that we receive, document, and consider them. Comments sent by any other method, to any other address or individual, or received after the end of the comment period on October 23, 2024, may not be considered. All comments received are a part of the public record and will generally be posted to https://www.regulations.gov without change. All Personal Identifying Information (for example, name, address, etc.) voluntarily submitted by the commenter may be publicly accessible. Do not submit confidential business information or otherwise sensitive or protected information.

NMFS will accept anonymous comments (enter “N/A” in the required fields if you wish to remain anonymous).

FOR FURTHER INFORMATION CONTACT: John Rippe, NMFS Office of Protected Resources, at John.Rippe@noaa.gov or 301-427-8467.

SUPPLEMENTARY INFORMATION:

Background

On July 25, 2024, NOAA Fisheries announced a proposed rule (89 FR 60498) to list five species of giant clams (Hippopus porcellanus, Tridacna derasa, T. gigas, T. mbalavuana, and T. squamosina) as endangered and one species of giant clam (H. hippopus) as threatened under the ESA due to their extinction risk, as assessed under section 4(a)(1) of the ESA. We also proposed to list four additional species of giant clams (T. crocea, T. maxima, T. noae, and T. squamosa) as threatened under the ESA. They are proposed to be listed due to the similarity of appearance of products derived from these species (e.g., meat, worked shell products, and pearls) to those derived from the six aforementioned species.

In that notification, we proposed to extend all of the ESA section 9 prohibitions to H. hippopus. We also proposed to issue a protective regulation under section 4(d) of the ESA to prohibit the import and export of derivative parts and products of T. crocea, T. maxima, T. noae, and T. squamosa into and from the United States and its Territories.

The proposed rule and other materials prepared in support of this action are available at: https://www.fisheries.noaa.gov/action/proposed-rule-10-species-giant-clams-under-endangered-species-act. We are accepting public comments on the proposed rule through a 90-day public comment period, which ends on October 23, 2024 (see ADDRESSES for instructions on how to submit a public comment). All comments submitted prior to this date will be considered before finalizing the listing determination.

Public Hearings

Public hearings on the proposed listing determination for 10 species of giant clams will be held on the following dates in the evening hours of the affected jurisdictions (American Samoa, the Commonwealth of the Northern Mariana Islands (CNMI), and Guam). Times are given in Eastern Daylight Time (EDT), Chamorro Standard Time (ChST) and Samoa Standard Time (SST). Addresses for the venues of the in-person hearings and instructions for joining the virtual hearing are provided under ADDRESSES above.

• American Samoa, Tutuila #1: A public hearing is scheduled for Wednesday, September 4, 2024, at the Rex H. Lee Auditorium. Doors will open at 5:30 p.m. SST, the informational meeting will begin at 6 p.m. SST, and the public hearing will begin at 7 p.m. SST.

• American Samoa, Tutuila #2: A public hearing is scheduled for Thursday, September 5, 2024, at the Tradewinds Hotel. Doors will open at 5:30 p.m. SST, the informational meeting will begin at 6 p.m. SST, and the public hearing will begin at 7 p.m. SST.

• CNMI, Tinian: A public hearing is scheduled for Tuesday, September 10, 2024, at Tinian Elementary School. Doors will open at 5:30 p.m. ChST, the informational meeting will begin at 6 p.m. ChST, and the public hearing will begin at 7 p.m. ChST.

• CNMI, Rota: A public hearing is scheduled for Thursday, September 12, 2024, at the Department of Commerce, Rota. Doors will open at 5:30 p.m. ChST, the informational meeting will begin at 6 p.m. ChST, and the public hearing will begin at 7 p.m. ChST.

• Guam: A public hearing is scheduled for Tuesday, September 17, 2024, at Pacific Islands Club Guam. Doors will open at 5:30 p.m. ChST, the informational meeting will begin at 6 p.m. ChST, and the public hearing will begin at 7 p.m. ChST.

• CNMI, Saipan: A public hearing is scheduled for Thursday, September 19, 2024, at Crowne Plaza Resort. Doors will open at 5:30 p.m. ChST, the informational meeting will begin at 6 p.m. ChST, and the public hearing will begin at 7 p.m. ChST.

• One virtual hearing is scheduled for the following time and date:

○ Eastern Daylight Time Zone: the informational meeting will begin on Wednesday, October 2, 2024, at 7 p.m. EDT, and the public hearing will begin at 8 p.m. EDT.

○ Samoa Standard Time Zone: the informational meeting will begin on Wednesday, October 2, 2024, at 12 p.m. SST, and the public hearing will begin at 1 p.m. SST.

○ Chamorro Standard Time Zone: the informational meeting will begin on Thursday, October 3, 2024, at 9 a.m. ChST, and the public hearing will begin at 10 a.m. ChST.

Six public hearings will be conducted in-person and one hearing will be conducted online as a Webex meeting, as specified in ADDRESSES above. The hearings will begin with a brief presentation by NMFS that provides an overview of the proposed ESA listing determination for 10 species of giant clams. After the presentation but before public comments, there will be a question and answer session during which members of the public may ask NMFS staff clarifying questions about the proposed rule. Following the question and answer session, members of the public will have the opportunity to provide oral comments on the record regarding the proposed listing determination. Members of the public will also have the opportunity to submit written comments at the hearings. Written comments may also be submitted at any time during the relevant public comment period as described above (see DATES and ADDRESSES). All oral comments will be recorded (audio), transcribed, and added to the public comment record for this proposed rule.

Listening Sessions

In advance of the first public hearing in American Samoa and the public hearings on Guam and Saipan, CNMI, we will hold three listening sessions to bring together resource managers, policymakers, and members of the public to share information about the potential impact of the proposed listing determination in the U.S. Pacific Island Territories from the perspectives of the local community. The listening sessions will be held on the following dates and times. Times are given in Chamorro Standard Time (ChST) and Samoa Standard Time (SST). Addresses for the venues of the listening sessions are provided under ADDRESSES above.

• American Samoa, Tutuila: A public listening session is scheduled for Wednesday, September 4, 2024, at the Rex H. Lee Auditorium. Doors will open at 12:30 p.m. SST.

• Guam: A public listening session is scheduled for Tuesday, September 17, 2024, at Pacific Islands Club Guam. Doors will open at 12:30 p.m. ChST.

• CNMI, Saipan: A public listening session is scheduled for Thursday, September 19, 2024, at Crowne Plaza Resort. Doors will open at 12:30 p.m. ChST.

The listening sessions are intended to provide a forum for members of the local community to share information about the potential impact in the U.S. Pacific Island Territories of the proposed ESA listing determination and the additional potential regulatory measures identified in our proposal. Listing decisions must be made solely on the basis of the best available scientific and commercial information regarding a species' status. 50 CFR 424.11(b). We cannot consider public comments on economic or other impacts as part of the listing determinations. However, NMFS is offering separate listening sessions to obtain relevant information about giant clams to assist with analyses under other authorities and to provide more background to local communities regarding the listing process and the ESA generally. Following a brief presentation by NMFS that provides an overview of the proposed ESA listing determination for 10 species of giant clams, participants will have an opportunity to ask clarifying questions, voice concerns about the proposed rule, or share additional information regarding giant clams, which NMFS staff will address to the extent practicable. All discussions that occur during the listening session will be manually recorded in summary notes and will be addressed in the final rule preamble.

Authority: 16 U.S.C. 1531 et seq.

Dated: August 14, 2024.
Samuel D. Rauch, III,
Deputy Assistant Administrator for Regulatory Programs, National Marine Fisheries Service.

[FR Doc. 2024-18637 Filed 8-19-24; 8:45 am]

BILLING CODE 3510-22-P